DEPARTMENT OF JUSTICE

Notice of Lodging of Consent Decree Under the Comprehensive Environmental Response, Compensation and Liability Act (“CERCLA”)

Consistent with Section 122(d)(2) of CERCLA, 42 U.S.C. 9622(d)(2), notice is hereby given that on November 7, 2011, a proposed Consent Decree in The General Electric Company and United Nuclear Corporation v. United States of America, Civil Action No. 1:10-cv-404 MCA/RHS, was lodged with the United States District Court for the District of New Mexico.

In this action the United States filed a counterclaim seeking to recover past and future costs incurred and to be incurred by the Environmental Protection Agency (EPA) during the performance of response actions at the Northeast Church Rock Mine Superfund Site in McKinley County, New Mexico.

Under the Consent Decree, the Defendant United Nuclear Corporation will reimburse the Hazardous Substance Superfund in the amount of $1,905,166.60 for EPA's response costs at the Site incurred through July 31, 2010 and interest incurred through May 5, 2011.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to The General Electric Company and United Nuclear Corporation v. United States of America, Civil Action No. 1:10-cv-404 MCA/RHS (D. N.M.), DOJ Ref. # 90-11-3-10077.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please refer to The General Electric Company and United Nuclear Corporation v. United States of America, Civil Action No. 1:10-cv-404 MCA/RHS (D. N.M.), DOJ Ref. # 90-11-3-10077, and enclose a check in the amount of $4.25 (25 cents per page reproduction cost) payable to the U.S. Treasury.

Henry S. Friedman,
Assistant Section Chief, Environmental Enforcement Section, Environment & Natural Resources Division.

[FR Doc. 2011-30131 Filed 11-21-11; 8:45 am]

BILLING CODE 4410-15-P